TENNESSEE VALLEY AUTHORITY

Environmental Impact Statement for Cumberland Fossil Plant Coal Combustion Residual Management

AGENCY: Tennessee Valley Authority.

ACTION: Notice of intent.

SUMMARY: The Tennessee Valley Authority (TVA) intends to prepare an Environmental Impact Statement (EIS) to address the potential environmental effects associated with management of coal combustion residual (CCR) material produced at the Cumberland Fossil Plant (CUF) located near Cumberland City, Stewart County, Tennessee. The purpose of the proposed EIS is to address long-term management of CCR produced at CUF. The project will help TVA comply with state and federal regulatory requirements related to CCR production and management, including the requirements of U.S. Environmental Protection Agency (EPA's) CCR Rule and Effluent Limitations Guidelines.

TVA will evaluate the potential environmental impacts of construction and operation of a new bottom ash dewatering facility and options for management and disposal of dry CCR produced at CUF. TVA will also evaluate closure of the Bottom Ash and the Main Ash Impoundments. TVA will develop and evaluate various alternatives to these actions, including the No Action Alternative. Public comments are invited concerning both the scope of the review and environmental issues that should be addressed.

DATES: Comments on the scope of the EIS must be received on or before January 6, 2017.

ADDRESSES: Written comments should be sent to Ashley Pilakowski, NEPA Compliance Specialist, 400 West Summit Hill Dr., WT 11D, Knoxville, TN 37902-1499. Comments also may be submitted online at: www.tva.gov/nepa.

FOR FURTHER INFORMATION CONTACT: Other related questions should be sent to Ashley A. Pilakowski, NEPA Compliance Specialist, Tennessee Valley Authority, at 865-632-2256 or aapilakowski@tva.gov.

SUPPLEMENTARY INFORMATION: This notice is provided in accordance with the regulations promulgated by the Council on Environmental Quality (40 CFR parts 1500 to 1508) and TVA's procedures implementing the National Environmental Policy Act (http://www.tva.com/environment/reports/pdf/tvanepa_procedures.pdf.)

TVA Power System and CCR Management

TVA is a corporate agency and instrumentality of the United States created by and existing pursuant to the TVA Act of 1933 that provides electricity for business customers and local power distributors. TVA serves more than 9 million people in parts of seven southeastern states. TVA receives no taxpayer funding, deriving virtually all of its revenues from sales of electricity. In addition to operating and investing its revenues in its electric system, TVA provides flood control, navigation and land management for the Tennessee River system and assists local power companies and state and local governments with economic development and job creation.

Historically, TVA has managed its CCRs in wet impoundments or dry landfills. Currently, CUF consumes an average of 5.6 million tons of coal per year, generates approximately 16 billion kilowatt-hours of electricity a year (enough to supply 1.1 million homes), and produces approximately 1.3 million tons of CCR a year which are managed in an existing fly ash stack, gypsum ash stack, Bottom Ash Impoundment and Main Ash Impoundment. CUF sells approximately 75% of the CCRs produced (725,000 tons gypsum and 275,000 tons of fly ash) annually for beneficial reuse as raw manufacturing material.

In July 2009, the TVA Board of Directors passed a resolution for staff to review TVA practices for storing CCRs at its generating facilities, including CUF, which resulted in a recommendation to convert the wet ash management system at CUF to a dry storage system. On April 17, 2015, the EPA published the final Disposal of CCRs from Electric Utilities rule, also known as the CCR Rule.

In June 2016, TVA issued a Final Programmatic Environmental Impact Statement (PEIS) that analyzed methods for closing CCR impoundments TVA fossil plants and identified specific screening and evaluation factors to help frame its evaluation of closures at its other facilities. A Record of Decision was released in July 2016 that would allow future environmental reviews of qualifying CCR impoundment closures to tier from the PEIS.

This EIS is intended to tier from the 2016 PEIS to evaluate the closure alternatives for the existing CCR Bottom Ash Impoundment and Main Ash Impoundment. The EIS will also evaluate construction and operation of a new bottom ash dewatering facility and management of dry CCR in a new lined CCR landfill meeting Tennessee Department of Environment and Conservation criteria. This project supports TVA's Board of Directors July 2009 resolution and subsequent recommendation to convert the wet ash management system at CUF to dry storage.

Alternatives

In addition to a No Action Alternative, this EIS will address alternatives that have reasonable prospects of providing a solution to the management and disposal of CCRs generated at CUF. TVA has determined that either the construction of a new on-site landfill or hauling CCR to an existing offsite permitted landfill are the most reasonable alternatives to address the need for dry CCR disposal. A new dewatering facility would dry bottom ash prior to disposal. TVA will consider closure alternatives for the Bottom Ash Impoundment and the Main Ash Impoundment in accordance with and consistent with TVA's PEIS and EPA's CCR Rule.

No decision has been made about CCR management at CUF beyond the current operations. TVA is preparing this EIS to inform decision makers, other agencies and the public about the potential for environmental impacts associated with the long-term management of CCR generated at CUF.

Proposed Resources and Issues To Be Considered

This EIS will identify the purpose and need of the project and will contain descriptions of the existing environmental and socioeconomic resources within the area that could be affected by management of CCR at CUF. Evaluation of potential environmental impacts to these resources will include, but not be limited to, water quality, aquatic and terrestrial ecology, threatened and endangered species, wetlands, land use, historic and archaeological resources, as well as solid and hazardous waste, safety, socioeconomic and environmental justice issues. The final range of issues to be addressed in the environmental review will be determined, in part, from scoping comments received. The preliminary identification of reasonable alternatives and environmental issues in this notice is not meant to be exhaustive or final.

Public Participation

TVA is interested in an open process and wants to hear from the community, interested agencies and special interest groups about the scope of resources and issues they would like to be considered in this EIS.

The public is invited to submit comments on the scope of this EIS no later than the date identified in the DATES section of this notice. Federal, state and local agencies such as the U.S. Army Corps of Engineers, U.S. Fish and Wildlife Service, Tennessee Department of Environmental Conservation and the Tennessee State Historic Preservation Officer also are invited to provide comments.

After consideration of comments received during the scoping period, TVA will develop and distribute a document that will summarize public and agency comments that were received and identify the schedule for completing the EIS process. Following analysis of the issues, TVA will prepare a draft EIS for public review and comment. In making its final decision, TVA will consider the analyses in this EIS and substantive comments that it receives. A final decision on proceeding with construction and operation of a bottom ash dewatering facility, management and final disposal of CCR and closure of the Bottom Ash Impoundment and Main Ash Impoundment will depend on a number of factors. These include results of the EIS, requirements of the CCR Rule, engineering and risk evaluations and financial considerations.

TVA anticipates holding a community meeting near the plant after releasing the Draft EIS. Meeting details will be posted on TVA's Web site. TVA expects to release the Draft EIS in summer of 2017.

Dated: November 28, 2016.
M. Susan Smelley,
Director, Environmental Permitting and Compliance.

[FR Doc. 2016-29082 Filed 12-2-16; 8:45 am]

BILLING CODE 8120-08-P